DEPARTMENT OF TRANSPORTATION

Federal Transit Administration

Preparation of Environmental Impact Statement for the South Florida East Coast Corridor Transit Analysis in Southeast Florida; Including Miami-Dade, Broward, Palm Beach Counties, FL

AGENCY: Federal Transit Administration (FTA), U.S. Department of Transportation (DOT).

ACTION: Notice of intent to prepare a Programmatic Environmental Impact Statement.

SUMMARY: The FTA and the Florida Department of Transportation (FDOT) are issuing this notice to advise the public that, in accordance with the National Environmental Policy Act (NEPA), Tier 1 of a Tiered, Programmatic Environmental Impact Statement (PEIS) will be prepared for the South Florida East Coast Corridor Transit Analysis (SFECCTA) to evaluate transit improvements in Miami-Dade, Broward and Palm Beach Counties, Florida. The SFECCTA is located along the eastern spine of the tri-county South Florida region, centered on but not limited to the Florida East Coast (FEC) Railway alignment. The study proposes in Tier 1 to evaluate preferred technologies (e.g., rail, bus, express bus, etc.) and alignments through areas with heavily congested roadways and under-served, transit-dependent populations. These areas extend from Downtown Miami north through Ft. Lauderdale's Central Business District (CBD) and north of Downtown West Palm Beach to the Town of Jupiter and Village of Tequesta in northern Palm Beach County. The Tier 1 Analysis consists of a Regional Transit Alternatives Analysis. The Tier 2 Analyses will consist of subsequent Sectional Alternatives Analyses (per independent section of the SFECCTA study area).

DATES: Scoping meetings: A series of public scoping meetings will be held in North Miami, Miami-Dade County; Fort Lauderdale, Broward County; and, West Palm Beach, Palm Beach County, Florida between April 17th and April 24th, 2006. See ADDRESSES below. Comment Due Date: Written comments on the scope of alternatives and impacts to be considered should be sent to Scott P. Seeburger, Project Manager, Florida Department of Transportation by May 30th, 2006. See ADDRESSES below.

ADDRESSES: Written comments on the project scope should be sent to: Scott P. Seeburger, Project Manager, Florida Department of Transportation, District IV Planning and Environmental Management, 3400 West Commercial Boulevard, Fort Lauderdale, FL 33309-3421, (954) 777-4632, scott.seeburger@dot.state.fl.us.

All scoping meetings will be held in wheelchair-accessible locations as follows:

Broward County: Monday, April 17th, 2006, from 3 to 9 p.m. at Broward County Main Library—6th Floor, 100 South Andrews Avenue—Fort Lauderdale, Florida.

Miami-Dade County: Wednesday, April 19th, 2006, from 3 to 9 p.m. at Gwen Margolis Community Center, 1590 N.E. 123rd Street—North Miami, Florida.

Palm Beach County: Monday, April 24th, 2006, from 3 to 9 p.m. at Cohen Pavilion at the Kravis Center, Lecture Hall A 701 West Okeechobee Boulevard—West Palm Beach, Florida.

FOR FURTHER INFORMATION CONTACT: Tony Dittmeier, Transportation Program Specialist, Federal Transit Administration, Atlanta Federal Center, 61 Forsyth St., SW., Suite 17T50, Atlanta, Georgia 30303 Telephone: (404) 562-3512.

SUPPLEMENTARY INFORMATION:

I. Scoping

FTA, in cooperation with FDOT and the Federal Railroad Administration (FRA), will establish the scope of the Tiered, PEIS for the SFECCTA in accordance with NEPA after consulting with Federal, State, and local resource and regulatory agencies through meetings and correspondence, and after hearing from the general public. Interested individuals, organizations, and agencies are invited to participate in defining the alternatives to be evaluated and related issues of concern with this study. An Advance Notification (AN) describing the proposed project study in detail with maps, figures and summary tables of socio-economic, social-cultural, environmental and other information was sent out by FDOT on January 23, 2006 and is also available on the project Web site at http://www.sfeccstudy.com/documents.html or by contacting Scott Seeburger, the FDOT Project Manager at the address, phone number, or email address given above under ADDRESSES. Also contact Mr. Seeburger to be placed on the project mailing list and receive information about the public scoping meetings and the project newsletter. Written comments on the alternatives and potential impacts to be considered should be sent to Scott Seeburger of FDOT.

II. Description of Study Area and Project Need

As described in detail in the FDOT AN mentioned above, the proposal is to improve transit services within a 2-mile wide, 85-mile long corridor (100 miles with connections to seaports and airports) along the eastern spine of development in southeast Florida within the contiguous urbanized portions of Miami-Dade, Broward and Palm Beach Counties, Florida. This 203 square mile (mi² ) study area is centered along, but not exclusively considering, the Florida East Coast (FEC) Railway from Downtown Miami (at the Miami-Dade Government Center) through the Central Business Districts (CBDs) of Downtown Aventura, Hollywood, Ft. Lauderdale, Boca Raton, Delray Beach, West Palm Beach, and Jupiter, Florida. Improvements to transit services in this tri-county, single Metropolitan Statistical Area (MSA) are considered necessary to provide for the existing and projected demands to move goods and people (i.e., freight and transit).

Federal transit law requires that projects proposed for FTA funding come from a long range metropolitan transportation plan that is fiscally constrained and conforms to State air quality plans. The proposed project has been found consistent with the approved comprehensive Long Range Transportation Plans of the Miami-Dade, Broward, and Palm Beach County Metropolitan Planning Organizations (MPOs) and with the local gubernatorially-approved 2005 Miami-Dade, Broward, and Palm Beach County MPO Transportation Improvement Plans (TIPs). The project is also consistent with the Federally-approved conforming TIPs of each of the three MPOs. The study area is highly developed, experiencing rapid redevelopment/densification, and project need is demonstrated in that the capacity of transportation facilities and services throughout the eastern portion of the tri-county area is not adequate for the present movement of goods and people. Furthermore, demographics indicate a growing populace of transit dependent commuters that current capacity cannot properly service. Freight service also needs to be upgraded in order to meet future freight demands. The seaports have focused on the corridor along the FEC Railway for new intermodal and freight transportation capacity given that roadway expansion is limited. The safe and efficient movement of freight and people to and from the South Florida area is important to the overall economic and environmental health of the region.

III. Alternatives

Alternatives under consideration include (1) taking no action; (2) Transportation Systems Management (TSM)/Baseline Alternative (planned transportation improvements);

(3) Build Alignment Alternatives including:

• FEC railway corridor

• US 1/Federal Highway/Biscayne Boulevard

• Dixie Highway

• Other roadways

(4) Build Technology/Transit Services Alternatives including:

• Intercity Passenger Rail (IPR)

• Commuter Rail Transit (CRT), including Diesel Multiple Unit (DMU) or Diesel-Electric Multiple Units (DEMU)

• Heavy Rail Transit (HRT)

• Monorails

• Light Rail Transit (LRT), including Light Diesel Multiple Unit (LDMU) or Light Diesel-Electric Multiple Units (LDEMU)

• Automated Guideway Transit (AGT)

• Bus Rapid Transit (BRT)

• Express Bus

• Waterborne Transit

IV. Probable Effects/Potential Impacts for Analysis

FTA and FDOT will evaluate all environmental, social, and economic impacts of the alternatives analyzed in the SFECCTA. This study will be incorporated into and serve as a source of information for the federal and state resource as well as regulatory agencies participating in Florida's Efficient Transportation Decision Making (ETDM) Process. The ETDM process was recently developed in response to the environmental provisions contained in Section 1309 of the Transportation Equity Act for the 21st Century (TEA-21), called “Environmental Streamlining.” The SFECCTA will be conducted in full compliance with the National Environmental Policy Act (NEPA) of 1969 and other related Federal and State laws, rules, and regulations. The SFECCTA will also be developed in accordance with the environmental provisions of the Safe, Accountable, Flexible, Efficient Transportation Equity Act: A Legacy for Users (SAFETEA-LU).

The Tiered EIS will evaluate purpose and need for the project, including project status, capacity, system linkage, legislation, social demands or economic development, modal interrelationships, and safety. The impact areas to be addressed include land use (existing, future, transit supportive/future patterns, and redevelopment potential); wetlands; floodplains; wildlife and habitat; specially designated waters (Outstanding Florida Waters and Aquatic Preserves); Coastal Zone Consistency Determination; cultural resources; coastal barrier resources; contamination; sole source aquifers; noise and vibration; essential fish habitat; potential environmental justice issues as well as secondary, cumulative, and construction-related impacts; air and water quality; navigable waterway crossings; and permits required. The need for right-of-way acquisitions and relocations will also be evaluated. Alternative alignments, designs, station locations, and other measures to avoid, minimize, and mitigate adverse impacts will be developed and evaluated. The exact Purpose and Need and Range of Alternatives for this project will be established after an opportunity by the participating agencies and the public for involvement.

V. Public Involvement

Letters describing the proposed action and soliciting comments will be sent to appropriate Federal, State, and local agencies, and to private organizations and citizens who have expressed interest in this proposal. The environmental review process for this project will include “participating agencies” from Federal, state, local agencies and tribal nations that have an interest in the project. Further, FTA and FDOT will establish a coordination plan for agency and public participation and comment. A public Web site has also been created for the project (http://www.sfeccstudy.com) where project information, notification of public meetings, and an opportunity to join the mailing list are provided. A series of public meetings (in conjunction with the project scoping meetings) will be held in North Miami, Miami-Dade County; Fort Lauderdale, Broward County; and, West Palm Beach, Palm Beach County, Florida between April 17th and April 24th, 2006. In addition, a public hearing will be held at the completion of each Tier of the PEIS. Public notice will be given of the time and place of the meetings and hearing. For each Tier, the Draft PEIS will be made available for public and agency review and comment. Formal scoping meetings are being held in conjunction with the public meetings listed above and are published on the project Web site's public meeting page.

To ensure that the full range of issues related to the proposed action are addressed and all significant issues identified, comments and suggestions are invited from all interested parties. Comments or questions concerning this proposed action and the PEIS should be directed to the FTA at the address provided previously.

VI. FTA Procedures

In accordance with FTA policy, all Federal laws, regulations, and executive orders affecting project development, including but not limited to the regulations of the Council on Environmental Quality and FTA implementing NEPA (40 CFR parts 1500-1508, and 23 CFR part 771), the 1990 Clean Air Act Amendments, Section 404 of the Clean Water Act, Executive Order 12898 regarding environmental justice, the National Historic Preservation Act, the Endangered Species Act, and Section 4(f) of the DOT Act, will be addressed to the maximum extent practicable during the NEPA process. In addition, FDOT seeks section 5309 New Starts funding for the project and will therefore be subject to the FTA New Starts regulation (49 CFR part 611). This New Starts regulation requires the submission of certain specified information to FTA to support an FDOT request to initiate preliminary engineering, which is normally done in conjunction with the NEPA process.

Issued on: March 23, 2006.
Yvette G. Taylor,
Regional Administrator.

[FR Doc. E6-4497 Filed 3-27-06; 8:45 am]

BILLING CODE 4910-57-P